DEPARTMENT OF TRANSPORTATION

Federal Aviation Administration

14 CFR Part 71

[Docket No. FAA-2024-2031; Airspace Docket No. 24-AEA-6]

RIN 2120-AA66

Amendment of Domestic Very High Frequency Omnidirectional Range (VOR) Federal Airways; Eastern United States

AGENCY: Federal Aviation Administration (FAA), DOT.

ACTION: Final rule.

SUMMARY: This action amends domestic Very High Frequency Omnidirectional Range (VOR) Federal Airways V-16, V-103, V-375, and V-473 in the eastern United States. The FAA is taking this action due to the planned decommissioning of the Roanoke, VA (ROA), VOR/Distance Measuring Equipment (VOR/DME). This action is in support of the FAA's VOR Minimum Operational Network (MON) Program.

DATES: Effective date 0901 UTC, June 12, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it amends the route structure to maintain the efficient flow of air traffic within the National Airspace System (NAS).

History

The FAA published a NPRM for Docket No. FAA 2024-2031 in the Federal Register (89 FR 64840; August 8, 2024), proposing to amend domestic VOR Federal Airways V-16, V-103, V-375, and V-473 in the eastern United States. Interested parties were invited to participate in this rulemaking effort by submitting written comments on the proposal to the FAA. No comments were received.

Incorporation by Reference

Domestic VOR Federal airways are published in paragraph 6010(a) of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending domestic VOR Federal Airways V-16, V-103, V-375, and V-473 in the eastern United States. This action is due to the decommissioning of the Roanoke, VA (ROA), VOR/DME. The route changes are described below.

V-16: Prior to this final rule, V-16 extended between the Los Angeles, CA (LAX), VOR/Tactical Air Navigation (VORTAC) and the Holly Springs, MS (HLI), VORTAC; between the Shelbyville, TN (SYI), VOR/DME, and the Richmond, VA (RIC), VORTAC; and between the Smyrna, DE (ENO), VORTAC and the intersection of the Calverton, NY (CCC), VOR/DME 044°, and the Madison, CT (MAD), VOR/DME 142° radials (CREAM Fix). The airspace within restricted areas R-5002A, R-5002C, and R-5002D is excluded during their times of use. The FAA removes the airway segments between the Pulaski, VA (PSK), VORTAC and the Lynchburg, VA (LYH), VOR/DME due to the scheduled decommissioning of the Roanoke, VA (ROA), VOR/DME.

Additionally, the FAA adds to the description that the airspace within restricted area R-5002F is excluded during its time of use as R-5002F is adjacent to VOR Federal Airway V-16 and must be excluded.

As amended, the route extends between the Los Angeles VORTAC and the Holly Springs VORTAC; between the Shelbyville VOR/DME and the Pulaski VORTAC; between the Lynchburg VOR/DME and the Richmond VORTAC; and between the Smyrna VORTAC and the CREAM Fix. The airspace within restricted areas R-5002A, R-5002C, R-5002D, and R-5002F is excluded during their times of use.

V-103: Prior to this final rule, V-103 extended between the Chesterfield, SC (CTF), VOR/DME and the Akron, OH (ACO), VOR/DME. In the description of V-103, the route segments between the Greensboro, NC (GSO), VORTAC and the Roanoke, VA (ROA), VOR/DME is further described as the Greensboro VORTAC 357° and the Roanoke VOR/DME 181° radials. The FAA removes the airway segments between the intersection of the Greensboro, NC (GSO), VORTAC 357° True (T)/360° Magnetic (M) and the South Boston, VA (SBV), VORTAC 247° T/252° M radials (MAYOS Fix) and the Elkins, WV (EKN), VORTAC due to the scheduled decommissioning of the Roanoke VOR/DME. As amended, the route extends between the Chesterfield VOR/DME and the MAYOS Fix; and between the Elkins VORTAC and the Akron VOR/DME.

V-375: Prior to this final rule, V-375 extended between the Roanoke, VA (ROA), VOR/DME and the intersection of the Gordonsville, VA (GVE), VORTAC 034° and Casanova, VA (CSN), VORTAC 142° radials (FLUKY Fix). The FAA removes the airway segments between the Roanoke VOR/DME and the Gordonsville VORTAC due to the scheduled decommissioning of the Roanoke VOR/DME. As amended, the route extends between the Gordonsville VORTAC and the FLUKY Fix.

V-473: Prior to this final rule, V-473 extended between the Roanoke, VA (ROA), VOR/DME and the Gordonsville, VA (GVE), VORTAC. The FAA removes the airway segments between the Roanoke VOR/DME and the Montebello, VA (MOL), VOR/DME due to the scheduled decommissioning of the Roanoke VOR/DME. As amended, the route extends between the Montebello VOR/DME and the Gordonsville VORTAC.

The navigational aid radials listed in the VOR Federal airway description regulatory text of this final rule are stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending domestic VOR Federal Airways V-16, V-103, V-375, and V-473 in the eastern United States, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways). . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a). Domestic VOR Federal Airways.

* * * * *

V-16 [Amended]

From Los Angeles, CA; Paradise, CA; Palm Springs, CA; Blythe, CA; Buckeye, AZ; Phoenix, AZ; INT Phoenix 155° and Stanfield, AZ, 105° radials; Tucson, AZ; San Simon, AZ; INT San Simon 119° and Columbus, NM, 277° radials; Columbus; El Paso, TX; Salt Flat, TX; Wink, TX; INT Wink 066° and Big Spring, TX, 260° radials; Big Spring; Abilene, TX; Bowie, TX; Bonham, TX; Paris, TX; Texarkana, AR; Pine Bluff, AR; Marvell, AR; to Holly Springs, MS. From Shelbyville, TN; Hinch Mountain, TN; Volunteer, TN; Holston Mountain, TN; to Pulaski, VA. From Lynchburg, VA; Flat Rock, VA; to Richmond, VA. From Smyrna, DE; Cedar Lake, NJ; Coyle, NJ; INT Coyle 036° and Kennedy, NY, 209° radials; Kennedy; INT Kennedy 040° and Calverton, NY, 261° radials; Calverton; to INT Calverton 044° and Madison, CT, 142° radials. The airspace within Mexico and the airspace below 2,000 feet MSL outside the United States is excluded. The airspace within Restricted Areas R-5002A, R-5002C, R-5002D, and R-5002F is excluded during their times of use.

* * * * *

V-103 [Amended]

From Chesterfield, SC; Greensboro, NC; to INT of Greensboro 357° and South Boston, VA, 247° radials. From Elkins, WV; Clarksburg, WV; Bellaire, OH; INT Bellaire 327° and Akron, OH, 181° radials; to Akron.

* * * * *

V-375 [Amended]

From Gordonsville, VA; to INT Gordonsville 034° and Casanova, VA, 142° radials.

* * * * *

V-473 [Amended]

From Montebello, VA; to Gordonsville, VA.

* * * * *

Issued in Washington, DC, on March 12, 2025.
Brian Eric Konie,
Manager (A), Rules and Regulations Group.

[FR Doc. 2025-04395 Filed 3-19-25; 8:45 am]

BILLING CODE 4910-13-P